ENVIRONMENTAL PROTECTION AGENCY

40 CFR Part 81

[EPA-HQ-OAR-2007-0562; EPA-HQ-OAR-2010-0163; FRL-9261-3]

RIN 2060-AQ30

Additional Air Quality Designations for the 2006 24-Hour Fine Particle National Ambient Air Quality Standards, 110(k)(6) Correction and Technical Correction Related to Prior Designation, and Decisions Related to the 1997 Air Quality Designations and Classifications for the Annual Fine Particles National Ambient Air Quality Standards

AGENCY: Environmental Protection Agency (EPA).

ACTION: Supplemental amendments; Final rule.

SUMMARY: On November 13, 2009, EPA promulgated air quality designations nationwide for all but three areas for the 2006 24-hour fine particle (PM2.5) National Ambient Air Quality Standards (NAAQS). This rule takes several additional actions related to the 2006 24-hour PM2.5 NAAQS designations. It establishes the initial PM2.5 air quality designations for three areas (Pinal County, Arizona; Plumas County, California; and Shasta County, California) and their respective surrounding counties that EPA deferred in the November 13, 2009 promulgated designations. Plumas and Shasta counties and their surrounding counties are being designated “unclassifiable/attainment,” while a portion of Pinal County is being designated as “nonattainment.” This action also includes a 110(k)(6) error correction (affecting Ravalli, Montana) and a technical correction (affecting Knoxville, Tennessee) related to the 2006 24-hour PM2.5 NAAQS designations. Finally, in this action, EPA announces its decision to retain the current designation of unclassifiable/attainment for Harris County, Texas and Pinal County, Arizona for the 1997 annual PM2.5 NAAQS.

DATES: Effective Date: The effective date of this rule is March 7, 2011.

ADDRESSES: The EPA has established two dockets for the actions contained in this final rule. Docket ID No. EPA-HQ-OAR-2007-0562 contains documents related to the initial designations for the three areas (Pinal County, Arizona; Plumas County, California; and Shasta County, California and their respective surrounding counties) for the 2006 24-hour PM2.5 NAAQS. Docket ID No. EPA-HQ-OAR-2010-0163 contains documents related to the potential redesignation process for two areas (Harris County, Texas and Pinal County, Arizona) for the 1997 annual PM2.5 NAAQS. All documents contained in both dockets are listed in the index at http://www.regulations.gov. Although listed in the index, some information is not publicly available, i.e., Confidential Business Information (CBI) or other information whose disclosure is restricted by statute. Certain other material, such as copyrighted material, is not placed on the Internet and will be publicly available only in hard copy form. Publicly available docket materials are available either electronically in the docket or in hard copy at the Docket, EPA/DC, EPA West, Room 3334, 1301 Constitution Ave., NW., Washington, DC. The Public Reading Room is open from 8:30 a.m. to 4:30 p.m. Monday through Friday, excluding legal holidays. The telephone number for the Public Reading Room is (202) 566-1744, and the telephone number for the Office of Air and Radiation Docket and Information Center is (202) 566-1742.

In addition, EPA has established a Web site for this rulemaking at: http://www.epa.gov/pmdesignations/2006standards/index.htm. The Web site includes EPA's final State and Tribal designations, as well as State initial recommendation letters, EPA modification letters, technical support documents, responses to comments, and other related technical information.

FOR FURTHER INFORMATION CONTACT: Beth W. Palma, Office of Air Quality Planning and Standards, U.S. Environmental Protection Agency, Mail Code C539-04, Research Triangle Park, NC 27711, phone number (919) 541-5432 or by e-mail at: palma.elizabeth@epa.gov or Carla Oldham, Office of Air Quality Planning and Standards, U.S. Environmental Protection Agency, Mail Code C539-04, Research Triangle Park, NC, 27711, phone number (919) 541-3347 or by e-mail at: oldham.carla@epa.gov.

Regional Office Contacts

Region 4—Steve Scofield (404) 562-9034.

Region 6—Joe Kordzi (214) 665-7186.

Region 8—Catherine Roberts (303) 312-6025.

Region 9—Ginger Vagenas (415) 972-3964.

SUPPLEMENTARY INFORMATION:

The public may inspect the rule and the technical support information by contacting staff listed below at the following locations:

Regional offices | Affected states
Richard A. Schutt, Chief, Air Planning Branch, EPA Region 4, Sam Nunn Atlanta Federal Center, 61 Forsyth, Street, SW., 12th Floor, Atlanta, GA 30303, (404) 562-9033 | Tennessee.
Guy Donaldson, Chief, Air Planning Section, EPA Region 6, 1445 Ross Avenue, Dallas, TX 75202, (214) 665-7242 | Texas.
Monica Morales, Chief, Air Quality Planning Unit, EPA Region 8, 1595 Wynkoop Street, Denver, CO 80202-1129, (303) 312-6936 | Montana.
Lisa Hanf, Chief, Air Planning Office, EPA Region 9, 75 Hawthorne Street, San Francisco, CA 94105, (415) 972-3854 | Arizona and California.

Table of Contents

The following is an outline of the Preamble.

I. Preamble Glossary of Terms and Acronyms

II. What is the purpose of this action?

III. What are the 2006 24-hour PM2.5 NAAQS designations promulgated in this action?

IV. 110(k)(6) Error Correction Related to the 2006 24-Hour PM2.5 NAAQS Designations

V. Technical Correction Related to the 2006 24-Hour PM2.5 NAAQS Designations

VI. What is the status of possible redesignations to nonattainment for Harris County, Texas, and Pinal County, Arizona, for the 1997 annual PM2.5 NAAQS?

VII. Significance of This Action

VIII. Where can I find information forming the basis for this rule and exchanges between EPA, States, and Tribes related to this rule?

IX. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions That Significantly Affect Energy Supply, Distribution, or Use

I. National Technology Transfer and Advancement Act (NTTAA)

J. Executive Order 12898: Federal Actions to Address Environmental Justice in Minority Populations and Low-Income Populations

K. Congressional Review Act

L. Judicial Review

I. Preamble Glossary of Terms and Acronyms

The following are abbreviations of terms used in the preamble.

APA Administrative Procedure Act

AQS Air Quality System

CAA Clean Air Act

CBSA Core Based Statistical Area

CFR Code of Federal Regulations

DC District of Columbia

EER Exceptional Events Rule

EO Executive Order

EPA Environmental Protection Agency

FR Federal Register

NAAQS National Ambient Air Quality Standards

NTTAA National Technology Transfer Advancement Act

OMB Office of Management and Budget

RFA Regulatory Flexibility Act

SIP State Implementation Plan

µg/m³ micrograms per cubic meter

UMRA Unfunded Mandate Reform Act of 1995

TAR Tribal Authority Rule

U.S. United States

VCS Voluntary Consensus Standards

II. What is the purpose of this action?

At the time that EPA finalized designations for the 2006 24-hour PM2.5 NAAQS on November 13, 2009 (74 FR 58688), EPA deferred designations for three areas to evaluate further the reason for their high fine particle concentrations during 2006-2008, a period which indicated possible new violating monitors in Pinal County, Arizona; Plumas County, California; and Shasta County, California. To determine what areas might be contributing to these potential violations, EPA also deferred initial designations for the following nearby counties: (i) In Arizona, the counties of Cochise, Gila, Graham, La Paz, Maricopa, Pima, Yavapai, and Yuma; and (ii) in California, the counties of Butte, Lassen, Modoc, Sierra, Siskiyou, Tehama, Trinity, and Yuba. EPA also deferred designations for Indian Country located within or near these counties.

The purpose of this action is to promulgate designations for the areas described above, including Indian Country not specifically excluded, in accordance with the requirements of Clean Air Act (CAA) section 107(d). The lists of areas in each State and in Indian Country, and the designation for each area, appear in the tables at the end of this final rule (amendments to 40 CFR 81.300-356). In particular, EPA is designating as “nonattainment” for the 2006 24-hour PM2.5 NAAQS of 35 µg/m³ State lands in a portion of Pinal County, Arizona.¹ The basis for establishing this partial county as nonattainment is monitored air quality data for 2006-2008 indicating a violation of the NAAQS.² For the designated Pinal County nonattainment area, Arizona must develop a State Implementation Plan (SIP) that provides for attainment of the NAAQS as expeditiously as practicable, in accordance with the requirements of the CAA and applicable EPA regulations. Pursuant to CAA section 172(b), EPA is announcing that this plan must be submitted no later three years from the effective date of these designations.

¹ By “State lands” we mean all land within the State boundary that is not within Indian County, including privately and Federally owned land.

² 2007-2009 data also show the area to be in violation of the 2006 24-hour PM2.5 NAAQS.

Such plan must meet the requirements of section 172(c). EPA's current implementation regulations for PM2.5 at 40 CFR section 51.1000-1012 apply only to the 1997 PM2.5 NAAQS. EPA is considering amending those regulations to encompass the 2006 24-hour PM2.5 NAAQS and to address any other revisions to the regulations that are necessary for these new standards. However, EPA anticipates that the SIP requirements for the 2006 PM2.5 NAAQS should be comparable to those for the 1997 PM2.5 NAAQS, so that the regulations at sections 51.1000-1012 can be used as guidance for SIP planning for the 2006 PM2.5 NAAQS, to the extent appropriate, pending any revisions to the regulations. For those areas designated unclassifiable/attainment, States are not required to develop a SIP to meet the requirements of section 172(c), but States must meet other statutory and regulatory requirements to prevent significant deterioration of air quality in those areas as well as applicable infrastructure requirements of section 110(a). EPA continues to defer the designations associated with Tribal lands in or near the designated nonattainment area in Pinal County, Arizona, to allow for completion of the Tribal consultation process.

After further review of air quality monitoring data, including an evaluation of exceptional event claims, EPA is also designating as “unclassifiable/attainment” the remaining two areas (Plumas County, California; Shasta County, California; and eight nearby counties) for which we previously deferred the initial air quality designation for the 2006 24-hour PM2.5 NAAQS.

When EPA promulgated the initial air quality designations in the November 13, 2009 notice (74 FR 58688), we also announced that our review of 2006-2008 monitoring data for the annual PM2.5 NAAQS indicated that two areas initially designated as “unclassifiable/attainment” for the 1997 annual PM2.5 NAAQS (Harris County, Texas and Pinal County, Arizona) were violating those NAAQS based on these years of data. After further review of these data, EPA is announcing in this action that we are retaining the designation of “unclassifiable/attainment” for both areas for the 1997 annual PM2.5 NAAQS, for the reasons explained below.

III. What are the 2006 24-hour PM2.5 NAAQS designations promulgated in this action?

Designations for the Pinal County, Arizona area based on 2006-2008 data. In this action, EPA is designating as “nonattainment” a portion of State lands in Pinal County, Arizona. The basis for establishing this partial county as nonattainment is monitored air quality data for 2006-2008 indicating a violation of the NAAQS (2006-2008 design value of 48 micrograms per cubic meter (µg/m³)).³ EPA is designating the remainder of Pinal County, Cochise, Gila, Graham, La Paz, Maricopa, Pima, Yavapai, and Yuma counties, and, except as noted below, Indian Country located within those areas, as “unclassifiable/attainment.” EPA is deferring designation of the Gila River Indian Community reservation, which is located in Pinal and Maricopa counties adjacent to the new nonattainment area, and the Ak-Chin Indian Community reservation, which is surrounded by the newly designated nonattainment portion of Pinal County, to allow for the completion of the Tribal consultation process.

³ 2007-2009 data also show this area to be in violation of the 2006 24-hour PM2.5 NAAQS, with a 2007-2009 design value of 40 µg/m³.

In October of 2009, EPA notified the Governor of Arizona and Tribal leaders of Tribes with lands located in Pinal and Maricopa counties that a monitor in Pinal County was violating the 2006 24-hour PM2.5 standards based on the most recent (2006-2008) air quality monitoring data. Due to this new violation, and due to the need for additional time to collect data and evaluate the area to determine an appropriate nonattainment area boundary, EPA decided to defer the area designation of Pinal County, Maricopa County (the other county comprising the Phoenix-Mesa-Scottsdale core-based statistical area (CBSA)), and the seven nearby counties (Cochise, Gila, Graham, La Paz, Pima, Yavapai, and Yuma Counties) surrounding the Phoenix-Mesa-Scottsdale CBSA,⁴ for the 2006 24-hour PM2.5 standards.

⁴ As described in EPA's rule promulgating initial PM2.5 designations for the 2006 24-hour standards, in evaluating areas potentially contributing to a monitored violation, EPA examined those counties located in the surrounding metropolitan statistical area (in this case, Pinal and Maricopa counties), and those nearby counties one or two adjacent rings beyond. See “Air Quality Designations for the 2006 24-hour Fine Particle (PM2.5) National Ambient Air Quality Standards,” 74 FR 58688, November 13, 2009, page 58694.

EPA then followed the designations process set forth in section 107(d) of the CAA which included sending letters in April and May of 2010 to affected States and Tribes notifying them of EPA's intentions with respect to potential modification of the initial designation recommendations of the State or Tribe. EPA also followed the guidance issued in June of 2007 related to boundary determinations for nonattainment areas for the 2006 24-hour PM2.5 NAAQS.⁵ In keeping with this guidance, EPA completed a 9-factor analysis ⁶ documented in the final Pinal County, Arizona Area Designation for the 2006 24-hour Fine Particle National Ambient Air Quality Standard Technical Support Document dated May 5, 2010, and supplemented by the Addendum to EPA's May 5, 2010 Technical Support Document: Pinal County, Arizona Area Designation for the 2006 24-hour Fine Particle National Ambient Air Quality Standard.

⁵ “Area Designations for the Revised 24-Hour Fine Particle National Ambient Air Quality Standards,” memorandum to Regional Administrators, Regions 1-10, from Robert J. Meyers, Acting Assistant Administrator, OAR, dated June 8, 2007.

⁶ The 9-factor analysis includes assessment of emission data, air quality data, population density and degree of urbanization, traffic and commuting patterns, growth rates and patterns, meteorology (weather/transport patterns), geography/topography (mountain ranges or other air basin boundaries), jurisdictional boundaries (e.g., counties, air districts, Reservations, metropolitan planning organizations), and level of control of emission sources.

In a letter dated July 19, 2010, the Governor of Arizona responded to EPA's May 10, 2010 notification of the need for a modification to the State's initial designation in order to designate a portion of Pinal County “nonattainment” for the 2006 24-hour PM2.5 NAAQS. The Governor disagreed with EPA's modification, but also provided a revised recommendation with a suggested boundary for the nonattainment area in Pinal County. This revised recommendation from the State was smaller than the boundary EPA originally proposed in its May 5, 2010 Technical Support Document. In support of the Governor's alternative boundary, the Arizona Department of Environmental Quality (ADEQ) submitted a technical report entitled Arizona Air Quality Designations, Technical Support Document, Boundary Recommendation for the Pinal County 24-hour Standard PM2.5 Nonattainment Area dated July 13, 2010 (ADEQ's technical report).

EPA has reviewed the Governor's July 19, 2010 letter and ADEQ's technical report and with this action is finalizing a revised boundary determination that includes the sources of PM2.5 and PM2.5 precursor emissions that contribute to air quality violations at the violating monitor. The final partial Pinal County, Arizona nonattainment area remains larger than the area recommended in the July 19, 2010 letter from the Governor but now excludes the Table Top Wilderness Area. Upon further analysis, and consistent with the State's recommendation, we have determined that this wilderness area does not contain sources of PM2.5 and PM2.5 precursor emissions contributing to the exceedances of the NAAQS measured at the violating monitor.

All correspondence and supporting documentation related to deferred final designations can be found in docket ID No. EPA-HQ-OAR-2007-0562.

Designations for the Plumas County, California, and Shasta County, California, areas based on 2006-2008 data. After further review of air quality monitoring data, including an evaluation of submitted exceptional event claims, EPA is designating as “unclassifiable/attainment” the remaining two areas for which the initial air quality designation was deferred for the 2006 24-hour PM2.5 NAAQS.

As described in the November 13, 2009 notice, the monitors located in two areas, Plumas County, California (2006-2008 24-hour design value of 49 µg/m³) and Shasta County, California (2006-2008 24-hour design value of 48 µg/m³) appeared to be in violation of the 2006 24-hour PM2.5 NAAQS with the inclusion of 2008 monitoring data. In light of this new data indicating a violation, EPA decided to take additional time to evaluate the areas to determine whether there was a violation and, if so, what the nonattainment area boundaries should be for such areas. EPA determined that this additional time would also permit the Agency and California to confer on appropriate area boundaries in accordance with the process contemplated in section 107(d). In addition, the California Air Resources Board (CARB) had submitted exceptional event claims that, if concurred upon by EPA, had the potential to impact the designations for the two identified areas.

Further evaluation of the monitoring data from Plumas County and Shasta County indicate that these areas were not violating the 2006 24-hour PM2.5 NAAQS based on 2006-2008 data, due to exceptional events that affected the monitors. On March 22, 2007, EPA adopted a final rule, Treatment of Data Influenced by Exceptional Events (72 FR 13560), also known as the Exceptional Events Rule (EER), to govern the review and handling of certain air quality monitoring data for which the normal planning and regulatory processes are not appropriate. Under the EER, EPA may exclude data from use in determinations of NAAQS exceedances and violations if a State demonstrates that an “exceptional event” caused the exceedances. Before EPA can exclude data from these regulatory determinations, the State must flag the data in EPA's Air Quality System (AQS) database and, after notice and opportunity for public comment, submit a demonstration to justify the exclusion. After considering the weight of evidence provided in the demonstration, EPA decides whether or not to concur with each flagged value.

On June 17, 2009, CARB submitted a preliminary demonstration for a high PM2.5 event that occurred at the Plumas County Portola monitor on July 8, 2007. Additional clarification concerning this event was submitted to EPA via e-mail on December 22, 2009. On August 28, 2009, CARB submitted additional event-related preliminary demonstration documentation for high PM2.5 events that occurred at various monitoring locations throughout California on 27 separate days during the summer of 2008. Additional clarification concerning these events was submitted to EPA via e-mail on January 19, 2010 and January 26, 2010.

EPA reviewed these demonstration submittals, and subsequently concurred, that specific wildfire-related events caused exceedances of the 24-hour PM2.5 standard on July 8, 2007 at the Portola monitor in Plumas County; at the Redding, Shasta County monitor on June 23, June 29, July 5, July 17, and July 23, 2008; at the Portola, Plumas County monitor on June 23, June 26, July 11, and July 23, 2008; and at the Quincy, Plumas County monitor on June 23, June 26, July 8, July 11, and July 19, 2008.7 8 EPA's evaluation of these events is documented in the Review of Evidence Regarding Claimed Exceptional Events Leading to 24-hour PM2.5 Exceedances: Plumas County, CA (July 8, 2007) technical support document dated March 11, 2010, the Review of Evidence Regarding Claimed Exceptional Events Leading to 24-hour PM2.5 Exceedances: Shasta County, CA (June 23, 2008 and July 23, 2008) and Plumas County, CA (June 23, 2008; June 26, 2008; July 11, 2008; July 19, 2008; and July 23, 2008) technical support document dated March 11, 2010, and the Review of Evidence Regarding Claimed Exceptional Events Leading to 24-hour PM2.5 Exceedances: Shasta County, CA (June 29, 2008; July 5, 2008; and July 17, 2008) and Plumas County, CA (June 26, 2008; July 8, 2008; and July 11, 2008) technical support document dated March 30, 2010.

⁷ Letter from Jared Blumenfeld, Regional Administrator, EPA Region 9, to Mary D. Nichols, California Air Resources Board, dated March 11, 2010.

⁸ Letter from Jared Blumenfeld, Regional Administrator, EPA Region 9, to Mary D. Nichols, California Air Resources Board, dated April 2, 2010.

Concurrence on these events resulted in revised 2006-2008 design values for Plumas County, California (2006-2008 24-hour design value of 34 µg/m³) and for Shasta County, California (2006-2008 24-hour design value of 24 µg/m³). Because the monitoring data for Plumas County and Shasta County are below the level of the NAAQS, EPA has determined that the initial designation for these counties should be “unclassifiable/attainment.” As a result of these two counties being in attainment of these NAAQS, other nearby counties for which we had deferred designations are not contributing to any violation of the NAAQS in a nearby area. Accordingly, EPA has determined that an initial designation of “unclassifiable/attainment” is appropriate for the counties of Butte, Lassen, Shasta, Sierra, Tehama and Yuba (nearby to Plumas) and for Lassen, Modoc, Plumas, Siskiyou, Tehama, and Trinity (nearby to Shasta) for the 2006 24-hour PM2.5 NAAQS.⁹

⁹ 2007-2009 data also show Shasta and Plumas Counties in attainment of the 2006 24-hour PM2.5 NAAQS with 2007-2009 design values of 21 µg/m³ (Shasta County) and 34 µg/m³ (Plumas County).

IV. 110(k)(6) Error Correction Related to the 2006 24-Hour PM2.5 NAAQS Designations

This action includes a 110(k)(6) error correction related to the designation classification for Ravalli, Montana. In the November 13, 2009 action, Ravalli, Montana was designated as “unclassifiable” rather than “unclassifiable/attainment.” This error was the result of incorrectly processing and calculating the ambient air monitoring data for Ravalli, Montana. The errant calculations resulted in the inaccurate designation of “unclassifiable.” Once the appropriate data substitutions were made and the data were recalculated, we determined that the designation should have been “unclassifiable/attainment.” The correction made by EPA in this action is identified in the table at the end of this notice and the change will be reflected in a revision of 40 CFR part 81.

V. Technical Correction Related to the 2006 24-Hour PM2.5 NAAQS Designations

In this rule, EPA is also making a minor technical correction to the name of the Knoxville, Tennessee nonattainment area included in the November 13, 2009 action (74 FR 58688). The name of the Knoxville, Tennessee nonattainment area is being changed in 40 CFR part 81 to be the Knoxville-Sevierville-La Follette, Tennessee nonattainment area to correspond with the name of the CBSA and to provide an accurate area name in the Code of Federal Regulations. The correction made by EPA in this action is identified in the table at the end of this notice and the change will be reflected in a revision of 40 CFR part 81.

VI. What is the status of possible redesignations to nonattainment for Harris County, Texas, and Pinal County, Arizona, for the 1997 annual PM2.5 NAAQS?

When EPA promulgated the initial air quality designations in the November 13, 2009 notice (74 FR 58688), we announced that our review of quality assured, certified air quality monitoring data for 2006-2008 indicated that two counties designated “unclassifiable/attainment” for the 1997 annual PM2.5 NAAQS of 15 µg/m³ had monitors that were now potentially violating that NAAQS. The potentially violating counties were identified as Pinal County, Arizona (2006-2008 annual average design value of 21.6 µg/m³) and Harris County, Texas (2006-2008 annual average design value of 15.2 µg/m³). Upon further review, EPA is announcing in this action that we are retaining the designation of “unclassifiable/attainment” for both areas. The rationale for these decisions is provided below.

In Pinal County, Arizona, EPA identified the “Cowtown” monitor (AQS ID: 04-021-3013) as the monitor potentially violating the 1997 annual PM2.5 NAAQS. However, EPA has subsequently concluded that the monitor in question is not suitable for determining compliance with these NAAQS. As documented in EPA's Technical Support Document for Determination that the Cowtown Monitor is Ineligible for Comparison with the Annual PM2.5 NAAQS dated April 26, 2010, EPA evaluated the comparability of data from the Cowtown site to the 1997 annual PM2.5 standard on four criteria: the monitoring objective, the spatial scale of representativeness, localized hot spot conditions, and the uniqueness of the site. EPA determined that data from the Cowtown monitor are ineligible for comparison to the annual PM2.5 NAAQS because the monitor functions as a population-oriented microscale (i.e., localized hot spot) monitor. EPA regulations provide that monitors at “relatively unique population-oriented microscale, or localized hot spot, or unique population-oriented middle-scale impact sites” are only eligible for comparison to the 24-hour PM2.5 NAAQS, not the annual PM2.5 NAAQS (40 CFR 58.30). No other monitoring site in Pinal County has shown a violation of the 1997 annual PM2.5 NAAQS in either the 2006-2008 or 2007-2009 timeframes. In the absence of monitoring data suitable for comparison to the 1997 annual PM2.5 NAAQS showing a violation of that standard, EPA has determined that it is appropriate to retain the current designation of “unclassifiable/attainment” for Pinal County, Arizona for these NAAQS.¹⁰

¹⁰ 2007-2009 data show that all other Pinal County monitors are in attainment of the 1997 annual PM2.5 NAAQS.

In Harris County, Texas, EPA identified the “Clinton Drive” monitor (AQS ID: 48-201-1035) as potentially violating the 1997 annual PM2.5 NAAQS. However, EPA has determined that monitor is no longer violating the 1997 annual PM2.5 NAAQS based on a review of complete, quality-assured, certified 2007-2009 data resulting in an annual average design value of 14.1 µg/m³. On October 8, 2009, EPA Region 6 notified the Governor of Texas of EPA's intention to designate Harris County, Texas as “nonattainment” for the 1997 annual PM2.5 NAAQS based on 2006-2008 monitoring data and requested that the State provide recommendations for the intended redesignation. As part of the review and recommendation process, Texas completed an expedited review and submittal of 2009 air quality monitoring data into AQS. The result of this additional data was the recalculation of Harris County, Texas design values based on 2007-2009 complete, quality-assured, certified data for 2007-2009. In a letter dated February 4, 2010, to the Region 6 EPA Regional Administrator, the Governor of Texas subsequently recommended that all areas in Texas that have monitors with data eligible for comparison to the 1997 annual PM2.5 NAAQS be classified as unclassifiable/attainment. Because EPA believes that inclusion of the most recent air quality monitoring data available is appropriate for redesignation decisions, EPA agreed with the State's unclassifiable/attainment recommendation for Harris County, Texas and, with this action, announces its decision to retain the current unclassifiable/attainment status for Harris County, Texas for the 1997 annual PM2.5 NAAQS.¹¹

¹¹ Letter from Al Armendariz, Regional Administrator, EPA Region 6, to Rick Perry, Governor of Texas, dated April 28, 2010.

All correspondence and supporting documentation related to the potential redesignations for the 1997 annual PM2.5 NAAQS can be found in docket ID No. EPA-HQ-OAR-2010-0163.

VII. Significance of This Action

In accordance with the foregoing discussion, EPA is promulgating the initial designations for the 2006 24-hour PM2.5 NAAQS for certain areas in Arizona and California. EPA is also making two corrections related to the 2006 24-hour PM2.5 NAAQS designations. The first correction is a 110(k)(6) error correction related to the designation classification for Ravalli, Montana. The second correction involves a technical correction to the name of the Knoxville, Tennessee nonattainment area included in the November 13, 2009 action. Finally, EPA is determining that it is not necessary to redesignate areas in Texas and Arizona to nonattainment for the 1997 annual PM2.5 NAAQS.

The designations and corrections made by EPA in this action with respect to the 2006 24-hour PM2.5 NAAQS relate to the other designations that EPA promulgated in the November 13, 2009 action (74 FR 58688). The designations and corrections made by EPA in this rule, related to the 24-hour PM2.5 standard, are set forth in the tables at the end of this notice and will change the designation status or area description for the affected areas in 40 CFR part 81 initially announced in the November 13, 2009, action. States with areas designated as “nonattainment” for the 24-hour PM2.5 NAAQS are required to submit SIPs addressing nonattainment area requirements within three years of designation, pursuant to section 172 of the CAA. Therefore, within three years following the March 7, 2011 effective date for the designations identified in this rulemaking, Arizona will be required to submit a SIP for the Pinal County nonattainment area.

VIII. Where can I find information forming the basis for this rule and exchanges between EPA, States, and Tribes related to this rule?

Information providing the basis for the actions and decisions in this notice, including Technical Support Documents, applicable EPA guidance memoranda, and copies of correspondence regarding this process between EPA and the States and Tribes are available in the identified dockets. All docket information is available for review at the EPA Docket Center listed above in the ADDRESSES section of this document and on our designation Web site at http://www.epa.gov/pmdesignations/2006standards/index.htm. Other related State-specific information is available at the EPA Regional Offices.

IX. Statutory and Executive Order Reviews

Upon promulgation of a new or revised NAAQS, the CAA requires EPA to designate areas as attaining or not attaining the NAAQS. The CAA then specifies requirements for areas based on whether such areas are attaining or not attaining the NAAQS. In this final rule, EPA assigns designations to areas as required.

A. Executive Order 12866: Regulatory Planning and Review

This action is not a “significant regulatory action” under the terms of Executive Order (EO) 12866 (58 FR 51735, October 4, 1993) and is therefore not subject to review under the EO.

B. Paperwork Reduction Act

This action does not impose an information collection burden under the provisions of the Paperwork Reduction Act, 44 U.S.C. 3501 et seq. Burden is defined at 5 CFR 1320.3(b). This rule responds to the requirement to promulgate air quality designations after promulgation of a NAAQS. This requirement is prescribed in the CAA section 107 of title 1. The present final rule does not establish any new information collection apart from that required by law.

C. Regulatory Flexibility Act

This final rule is not subject to the Regulatory Flexibility Act (RFA), which generally requires an agency to prepare a regulatory flexibility analysis for any rule that will have a significant economic impact on a substantial number of small entities. The RFA applies only to rules subject to notice and comment rulemaking requirements under the Administrative Procedure Act (APA) or any other statute. This rule is not subject to notice and comment requirements under the APA or any other statute because the rule is not subject to the APA and is subject to CAA section 107(d)(2)(B), which does not require that the Agency issue a notice of proposed rulemaking before issuing this rule.

D. Unfunded Mandates Reform Act

This action contains no Federal mandate under the provisions of Title II of the Unfunded Mandates Reform Act of 1995 (UMRA), 2 U.S.C. 1531-1538 for State, local, or Tribal governments or the private sector. The action imposes no enforceable duty on any State, local or Tribal governments or the private sector. Therefore, this action is not subject to the requirements of sections 202 and 205 of the UMRA.

This action is also not subject to the requirements of section 203 of UMRA because it contains no regulatory requirements that might significantly or uniquely affect small governments. It does not create any additional requirements beyond those of the PM2.5 NAAQS (40 CFR 50.13), therefore, no UMRA analysis is needed. This rule establishes the application of the PM2.5 standard and the designation for each area of the country for the PM2.5 NAAQS. The CAA requires States to develop plans, including control measures, based on their designations and classifications.

One mandate that may apply as a consequence of this action to the portion of Pinal County, Arizona being designated as “nonattainment” is the requirement under CAA section 176(c) and associated regulations to demonstrate conformity of Federal actions to SIPs. These rules apply to Federal agencies and Metropolitan Planning Organizations making conformity determinations. The EPA concludes that such conformity determinations will not cost $100 million or more in the aggregate.

The EPA believes that any new controls imposed as a result of this action will not cost in the aggregate $100 million or more annually. Thus, this Federal action will not impose mandates that will require expenditures of $100 million or more in the aggregate in any one year.

Nonetheless, EPA carried out consultation with government entities affected by this rule, including States, Tribal governments, and local air pollution control agencies.

E. Executive Order 13132: Federalism

Executive Order 13132, entitled “Federalism” (64 FR 43255, August 10, 1999), requires EPA to develop an accountable process to ensure meaningful and timely input by State and local officials in the development of regulatory policies that have federalism implications. “Policies that have federalism implications” is defined in the Executive Order to include regulations that have “substantial direct effects on the States, or the relationship between the national government and the States, or on the distribution of power and responsibilities among the various levels of government.”

This final rule does not have federalism implications. It will not have substantial direct effects on the States, on the relationship between the national government and the States, or on the distribution of power and responsibilities among the various levels of government, as specified in Executive Order 13132. The CAA establishes the process whereby States take the lead in developing plans to meet the NAAQS. This rule will not modify the relationship of the States and EPA for purposes of developing programs to implement the NAAQS. Thus, Executive Order 13132 does not apply to this rule.

F. Executive Order 13175: Consultation and Coordination With Indian Tribal Governments

Executive Order 13175, entitled “Consultation and Coordination with Indian Tribal Governments” (65 FR 67249, November 2, 2000), requires EPA to develop an accountable process to ensure “meaningful and timely input by Tribal officials in the development of regulatory policies that have Tribal implications.” This action does not have Tribal implications, as specified in Executive Order 13175 (65 FR 67249, November 9, 2000). This rule concerns the designation and classification of areas as “attainment” and “nonattainment” for the 2006 24-hour PM2.5 NAAQS. The CAA provides for States and eligible Tribes to develop plans to regulate emissions of air pollutants within their areas based on their designations. The Tribal Authority Rule (TAR) provides Tribes the opportunity to apply for eligibility to develop and implement CAA programs such as programs to attain and maintain the PM2.5 NAAQS, but it leaves to the discretion of the Tribe the decision of whether to apply to develop these programs and which programs, or appropriate elements of a program, the Tribe will seek to adopt. This rule does not have a substantial direct effect on one or more Indian Tribes. It does not create any additional requirements beyond those of the PM2.5 NAAQS (40 CFR section 50.13). This rule establishes the application of the PM2.5 standard and the designation and classification for certain areas of the country for the PM2.5 NAAQS. Additionally, no Tribe has implemented a CAA program to attain the PM2.5 NAAQS at this time. Furthermore, this rule does not affect the relationship or distribution of power and responsibilities between the Federal government and Indian Tribes. The CAA and the TAR establish the relationship of the Federal government and Tribes in developing plans to attain the NAAQS, and this rule does nothing to modify that relationship. Because this rule does not have Tribal implications, Executive Order 13175 does not apply.

Although Executive Order 13175 does not apply to this rule, EPA communicated with Tribal leaders and environmental staff regarding the designations process. EPA also sent individualized letters to all Federally recognized Tribes to explain the designation process for the 2006 24-hour PM2.5 NAAQS, to provide the EPA designations guidance, and to offer consultation with EPA. EPA provided further information to Tribes through presentations at the National Tribal Forum and through participation in National Tribal Air Association conference calls. EPA also sent individualized letters to all Federally recognized Tribes about EPA's intended areas area designations for the 24-hour PM2.5 standards and offered Tribal leaders the opportunity for consultation. These communications provided opportunities for Tribes to voice concerns to EPA about the general designations process for the 24-hour PM2.5 NAAQS, as well as concerns specific to a Tribe, and informed EPA about key Tribal concerns regarding designations as the rule was under development.

G. Executive Order 13045: Protection of Children From Environmental Health and Safety Risks

The action is not subject to Executive Order 13045 (62 FR 19885, April 23, 1997) because it is not economically significant as defined in Executive Order 12866, and because EPA does not have reason to believe that the environmental health risks or safety risks addressed by this rule present a disproportionate risk or safety risk to children. Nonetheless, we have evaluated the environmental health or safety effects of the PM2.5 NAAQS on children. The results of this risk assessment are contained in the NAAQS for the 2006 24-hour PM2.5, Final Rule (October 17, 2006, 71 FR 61144).

H. Executive Order 13211: Actions That Significantly Affect Energy Supply, Distribution, or Use

This action is not subject to Executive Order 13211 (66 FR 28355 (May 22, 2001)), because it is not a significant regulatory action under Executive Order 12866.

I. National Technology Transfer and Advancement Act (NTTAA)

Section 12(d) of the NTTAA of 1995, Public Law 104-113, section 12(d) (15 U.S.C. 272 note) directs EPA to use voluntary consensus standards (VCS) in its regulatory activities unless to do so would be inconsistent with applicable law or otherwise impracticable. Voluntary consensus standards are technical standards (e.g., materials specifications, test methods, sampling procedures, and business practices) that are developed or adopted by VCS bodies. The NTTAA directs EPA to provide Congress, through OMB, explanations when the Agency decides not to use available and applicable VCS.

This action does not involve technical standards. Therefore, EPA did not consider the use of any VCS.

J. Executive Order 12898: Federal Actions to Address Environmental Justice in Minority Populations and Low-Income Populations

Executive Order 12898 (59 FR 7629 (Feb. 16, 1994)) establishes Federal executive policy on environmental justice. Its main provision directs Federal agencies, to the greatest extent practicable and permitted by law, to make environmental justice part of their mission by identifying and addressing, as appropriate, disproportionately high and adverse human health or environmental effects of their programs, policies, and activities on minority populations and low-income populations in the U.S.

The EPA has determined that this final rule will not have disproportionately high and adverse human health or environmental effects on minority or low-income populations because this rule does not affect the level of protection provided to human health or the environment.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the U.S. The EPA will submit a report containing this rule and other required information to the U.S. Senate, the U.S. House of Representatives, and the Comptroller General of the U.S. prior to publication of the rule in the Federal Register. A major rule cannot take effect until 60 days after it is published in the Federal Register. This action is not a “major rule” as defined by 5 U.S.C. 804(2). This rule will be effective March 7, 2011.

L. Judicial Review

Section 307(b)(1) of the CAA indicates which Federal Courts of Appeal have jurisdiction for petitions for review of final actions by EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.” EPA is determining that this action is of nationwide scope and effect.

This rule designating areas for the 2006 24-hour PM2.5 NAAQS is “nationally applicable” within the meaning of section 307(b)(1). This rule establishes or corrects designations for several areas across the U.S. for the 2006 24-hour PM2.5 NAAQS. In addition, this action relates to the prior nationwide rulemaking in which EPA promulgated designations for numerous other areas nationwide. At the core of this rulemaking is EPA's interpretation of the definition of “nonattainment” under section 107(d)(1) of the CAA. In determining which areas should be designated “nonattainment” (or conversely, should be designated attainment or unclassifiable), EPA used an analytical approach that it applied consistently across the U.S. in this rulemaking, and in the prior related rulemaking.

For the same reasons, the Administrator also is determining that the final designations are of nationwide scope and effect for the purposes of section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this rulemaking extends to multiple judicial circuits because the designations apply to various areas of the country. Proceeding with litigation in multiple circuits would waste judicial, agency, and litigant resources, and could lead to inconsistent results. In these circumstances, section 307(b)(1) and its legislative history calls for the Administrator to find the rule to be of “nationwide scope or effect” and for venue to be in the DC Circuit.

Thus, any petitions for review of final designations must be filed in the Court of Appeals for the District of Columbia Circuit within 60 days from the date final action is published in the Federal Register.

List of Subjects in 40 CFR Part 81

Environmental protection, Air pollution control, National parks, Wilderness areas.

Dated: January 26, 2011.
Lisa P. Jackson,
Administrator.

For the reasons set forth in the preamble, 40 CFR part 81 is amended as follows:

PART 81—DESIGNATIONS OF AREAS FOR AIR QUALITY PLANNING PURPOSES

1. The authority citation for part 81 continues to read as follows:

Authority: 42 U.S.C. 7401, et seq.

Subpart C—Section 107 Attainment Status Designations

2. In § 81.303, the “Arizona—PM2.5 (24-hour NAAQS)” table is amended as follows:

a. By adding a new entry for “West Central Pinal” after “Santa Cruz County” under “Nogales” to read as set forth below.

b. By revising the entry for “Cochise County” to read as set forth below.

c. By revising the entry for “Gila County” to read as set forth below.

d. By revising the entry for “Graham County” to read as set forth below.

e. By revising the entry for “La Paz County” to read as set forth below.

f. By revising the entry for “Maricopa County” to read as set forth below.

g. By revising the entry for “Pima County” to read as set forth below.

h. By revising the entry for “Pinal County” to read as set forth below.

i. By revising the entry for “Yavapai County” to read as set forth below.

j. By revising the entry for “Yuma County” to read as set forth below.

k. By adding entries for “Lands of the Gila River Indian Community in Pinal County” and “Lands of the Ak-Chin Indian Community” after “Yuma County” as set forth below.

§ 81.303 Arizona.

* * * * *

Arizona—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
* * * * * * *
West Central Pinal:
Pinal County (part) |  | Unclassifiable/Attainment | 3/7/11 | Nonattainment.
1. Commencing at a point which is the intersection of the eastern line of Range 1 East, Gila and Salt River Baseline and Meridian, and the northern line of Township 4 South, which is the point of beginning: |  |  |
2. Thence, proceed easterly along the northern line of Township 4 South to a point where the northern line of Township 4 South intersects the eastern line of Range 4 East; |  |  |
3. Thence, southerly along the eastern line of Range 4 East to a point where the eastern line of Range 4 East intersects the northern line of Township 6 South; |  |  |
4. Thence, easterly along the northern line of Township 6 South to a point where the northern line of Township 6 South intersects the eastern line of Range 4 East; |  |  |
5. Thence, southerly along the eastern line of Range 4 East to a point where the eastern line of Range 4 East intersects the southern line of Township 7 South; |  |  |
6. Thence, westerly along the southern line of Township 7 South to a point where the southern line of Township 7 South intersects the quarter section line common to the southwestern southwest quarter section and the southeastern southwest quarter section of section 34, Range 3 East and Township 7 South; |  |  |
7. Thence, northerly along the quarter section line common to the southwestern southwest quarter section and the southeastern southwest quarter section of sections 34, 27, 22, and 15, Range 3 East and Township 7 South, to a point where the quarter section line common to the southwestern southwest quarter section and the southeastern southwest quarter section of sections 34, 27, 22, and 15, Range 3 East and Township 7 South, intersects the northern line of section 15, Range 3 East and Township 7 South; |  |  |
8. Thence, westerly along the northern line of sections 15, 16, 17, and 18, Range 3 East and Township 7 South, and the northern line of sections 13, 14, 15, 16, 17, and 18, Range 2 East and Township 7 South, to a point where the northern line of sections 15, 16, 17, and 18, Range 3 East and Township 7 South, and the northern line of sections 13, 14, 15, 16, 17, and 18, Range 2 East and Township 7 South, intersect the eastern line of Range 1 East, which is the common boundary between Maricopa and Pinal Counties, as described in Arizona Revised Statutes sections 11-109 and 11-113; |  |  |
9. Thence, northerly along the eastern line of Range 1 East to the point of beginning which is the point where the eastern line of Range 1 East intersects the northern line of Township 4 South; |  |  |
10. Except that portion of the area defined by paragraphs 1 through 9 above that lies in Indian country. |  |  |
* * * * * * *
Rest of State:
* * * * * * *
Cochise County |  | Unclassifiable/Attainment | 3/7/11 | Unclassifiable/Attainment.
* * * * * * *
Gila County |  | Unclassifiable/Attainment | 3/7/11 | Unclassifiable/Attainment.
* * * * * * *
Graham County |  | Unclassifiable/Attainment | 3/7/11 | Unclassifiable/Attainment.
* * * * * * *
La Paz County |  | Unclassifiable/Attainment | 3/7/11 | Unclassifiable/Attainment.
* * * * * * *
Maricopa County |  | Unclassifiable/Attainment | 3/7/11 | Unclassifiable/Attainment.
* * * * * * *
Pima County |  | Unclassifiable/Attainment | 3/7/11 | Unclassifiable/Attainment.
* * * * * * *
Pinal County (remainder, excluding lands of the Gila River Indian Community and Ak-Chin Indian Community |  | Unclassifiable/Attainment | 3/7/11 | Unclassifiable/Attainment.
* * * * * * *
Yavapai County |  | Unclassifiable/Attainment | 3/7/11 | Unclassifiable/Attainment.
Yuma County |  | Unclassifiable/Attainment | 3/7/11 | Unclassifiable/Attainment.
Lands of the Gila River Indian Community in Pinal County |  | Unclassifiable/Attainment |  | Unclassifiable/Attainment.
Lands of the Ak-Chin Indian Community in Pinal County |  | Unclassifiable/Attainment |  | Unclassifiable/Attainment.

3. In § 81.305, the “California—PM2.5 (24-hour NAAQS)” table is amended as follows:

a. By revising the entry for “Trinity County” under the heading of “North Coast Air Basin” to read as set forth below.

b. By revising the entries for “Lassen County,” “Modoc County,” and “Siskiyou County” under the heading of “Northeast Plateau Air Basin” to read as set forth below.

c. By revising the entries for “Butte County (remainder)”, “Shasta County”, “Tehama County”, and “Yuba County (remainder)” under the heading “Upper Sacramento Valley Region” to read as set forth below.

d. By revising the entries for “Plumas County,” and “Sierra County” under the heading “Northern Mountain Counties” to read as set forth below.

§ 81.305 California.

* * * * *

California—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
* * * * * * *
Rest of State:
North Coast Air Basin:
* * * * * * *
Trinity County |  | Unclassifiable/Attainment | 3/7/11 | Unclassifiable/Attainment.
Northeast Plateau Air Basin:
Lassen County |  | Unclassifiable/Attainment | 3/7/11 | Unclassifiable/Attainment.
Modoc County |  | Unclassifiable/Attainment | 3/7/11 | Unclassifiable/ Attainment.
Siskiyou County |  | Unclassifiable/Attainment | 3/7/11 | Unclassifiable/Attainment.
* * * * * * *
Upper Sacramento Valley Region:
Butte County (remainder) |  | Unclassifiable/Attainment | 3/7/11 | Unclassifiable/Attainment.
* * * * * * *
Shasta County |  | Unclassifiable/Attainment | 3/7/11 | Unclassifiable/Attainment.
Tehama County |  | Unclassifiable/Attainment | 3/7/11 | Unclassifiable/Attainment.
Yuba County (remainder) |  | Unclassifiable/Attainment | 3/7/11 | Unclassifiable/Attainment.
* * * * * * *
Northern Mountain Counties:
* * * * * * *
Plumas County |  | Unclassifiable/Attainment | 3/7/11 | Unclassifiable/ Attainment.
Sierra County |  | Unclassifiable/Attainment | 3/7/11 | Unclassifiable/ Attainment.
* * * * * * *

4. In § 81.327, the “Montana—PM2.5 (24-hour NAAQS)” table is amended as follows:

a. By removing the entry for “Ravalli County”.

b. By removing the heading “Rest of State:” and adding in its place “Statewide” as set forth below.

c. By adding a section for “Ravalli County” after “Prairie County” to read as set forth below.

§ 81.327 Montana.

* * * * *

Montana—PM2.5
[24-hour NAAQS]
Designated area | Designation for the 1997 NAAQX ᵃ: Date ¹ | Designation for the 1997 NAAQX ᵃ: Type | Designation for the 2006 NAAQS ᵃ: Date ² | Designation for the 2006 NAAQS ᵃ: Type
Statewide:
* * * * * * *
Ravalli County |  | Unclassifiable/Attainment |  | Unclassifiable/Attainment.
* * * * * * *

5. In § 81.343, the “Tennessee—PM2.5 (24-hour NAAQS)” table is amended by removing the designated area “Knoxville,TN” and adding in its place “Knoxville-Sevierville-La Follette, TN” to read as follows:

§ 81.343 Tennessee.

* * * * *

Tennessee—PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
Knoxville-Sevierville-La Follette, TN
* * * * * * *

[FR Doc. 2011-2269 Filed 2-2-11; 8:45 am]

BILLING CODE 6560-50-P